DEPARTMENT OF STATE

[Public Notice 6930]

Executive Order 11423, as Amended; Notice of Receipt of Application To Amend the Presidential Permit for the Nogales-Mariposa International Border Crossing on the U.S.-Mexico Border

AGENCY: Department of State.

ACTION: Notice.

SUMMARY: The Department of State hereby gives notice that, on March 12, 2010, it received from the General Services Administration (GSA) an application to amend the Presidential permit that the Department issued in 2005 to the Arizona Department of Transportation for the Nogales-Mariposa port of entry (Mariposa) at Nogales, Arizona, and Nogales, Sonora, Mexico. GSA intends to remodel and expand the existing border crossing. GSA's application to the Department is in keeping with the determination that GSA is generally the appropriate permittee for at-grade (i.e., those not located along the Rio Grande), federally owned border crossings along the U.S.-Mexico border. The Department and GSA agree that an amendment of the existing Presidential permit is required in this case because GSA's project would widen the piercing of the border and would formally establish Mariposa as a border crossing for pedestrians.

According to the application, approximately 45% of the produce consumed in the United States during winter months crosses at Mariposa. In 2008, $12.85 billion of merchandise entered through the crossing, an increase of $8.25 billion over the total for 1995. The inadequacies of the existing facility cause long delays for commercial traffic during peak times. When it opened about 35 years ago, Mariposa was designed to accommodate 450 commercial vehicles per day. Currently, the port processes approximately 1,000 commercial vehicles per day. This figure is expected to increase to 1,730 per day by 2030. Furthermore, Mariposa was not designed to accommodate pedestrians and buses; lack of pedestrian facilities results in pedestrians crossing an active roadway to enter the U.S. facility. Inspection areas are too small to meet production standards, vehicle circulation routes are insufficient to efficiently move traffic, and critical security and operational facilities are poor and lacking. GSA's $199 million project is funded by the American Reinvestment and Recovery Act of 2009 and is a priority project for both GSA and the Bureau of Customs and Border Protection (CBP) of the Department of Homeland Security because of the crossing's importance to trade and its inability to facilitate current traffic flows safely and efficiently.

The Department's jurisdiction over this application is based upon Executive Order 11423 of August 16, 1968, as amended. As provided in E.O. 11423, the Department is circulating this application to relevant federal and state agencies for review and comment. Under E.O. 11423, the Department has the responsibility to determine, taking into account input from these agencies and other stakeholders, whether amending the Presidential permit for this border crossing would be in the U.S. national interest.

DATES: Interested members of the public are invited to submit written comments regarding this application on or before April 29, 2010 to Stewart Tuttle, U.S.-Mexico Border Affairs Coordinator via e-mail at WHA-BorderAffairs@state.gov or by mail at Office of Mexican Affairs—Room 3909, Department of State, 2201 C St., NW., Washington, DC 20520. Please note that internal processing often results in delayed delivery of standard mail.

FOR FURTHER INFORMATION CONTACT: Stewart Tuttle, U.S.-Mexico Border Affairs Coordinator via e-mail at WHA-BorderAffairs@state.gov; by phone at 202-647-9894; or by mail at Office of Mexican Affairs—Room 3909, Department of State, 2201 C St., NW., Washington, DC 20520. General information about Presidential Permits is available on the Internet at http://www.state.gov/p/wha/rt/permit/.

SUPPLEMENTARY INFORMATION: This application and supporting documents are available for review in the Office of Mexican Affairs during normal business hours.

Dated: March 19, 2010.
Alex Lee,
Director, Office of Mexican Affairs, Department of State.

[FR Doc. 2010-6638 Filed 3-24-10; 8:45 am]

BILLING CODE 4710-29-P